DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 29, 2011. Address written comments to Statutory Import Programs Staff, Room 3720, U.S. Department of Commerce, Washington, DC 20230. Applications may be examined between 8:30 a.m. and 5 p.m. at the U.S. Department of Commerce in Room 3720.

Docket Number: 11-030. Applicant: University of Chicago, Institute for Genomic Systems and Biology, 900 E 57th Street, Chicago, IL 60637. Instrument: Digital Scanned Laser Microscope. Manufacturer: Emblem GMBH, Germany. Intended Use: The instrument will be used to study the functions and properties of biological materials, such as biomedical specimens, through microscopy imaging and recording of fluorescently labeled, light-sensitive samples. Justification for Duty-Free Entry: No instruments of the same or similar general category, which could be used for the intended purposes, are being manufactured in the United States. The DSLM is a new prototype not available commercially. Application accepted by Commissioner of Customs: May 27, 2011.

Docket Number: 11-042. Applicant: Brandeis University, 415 South Street, Waltham, MA 02454. Instrument: Technai G2 F20 Twin Electron Microscope. Manufacturer: FEI Company, The Netherlands. Intended Use: The instrument will be used for NIH-funded basic biomedical research to study the chemical mechanisms of cellular proteins and molecules. Justification for Duty-Free Entry: No instruments of the same general category are being manufactured in the United States. Application accepted by Commissioner of Customs: July 1, 2011.

Docket Number: 11-045. Applicant: University of California Santa Barbara, Building 503, Room 1355, Santa Barbara, CA 93106-5050. Instrument: Ultrasonic Fatigue Testing Equipment. Manufacturer: University of Natural Resources and Applied Life Sciences, Austria. Intended Use: The instrument is a highly specialized system for studying a wide range of materials used in very high cycle, high temperature applications, such as light metals, composite metal/ceramics, titanium alloys and superalloys. Justification for Duty-Free Entry: No instruments of the same general category are being manufactured in the United States. Application accepted by Commissioner of Customs: July 18, 2011.

August 3, 2011.
Gregory W. Campbell,
Director, Subsidies Enforcement Office, Office of Policy, Import Administration.

[FR Doc. 2011-20206 Filed 8-8-11; 8:45 am]

BILLING CODE 3510-DS-P